DEPARTMENT OF COMMERCE

National Oceanic and Atmospheric Administration

RIN 0648-XA165

Marine Mammals; File No. 15510

AGENCY: National Marine Fisheries Service (NMFS), National Oceanic and Atmospheric Administration (NOAA), Commerce.

ACTION: Notice; issuance of permit amendment.

SUMMARY: Notice is hereby given that a major amendment to Permit No. 15510 has been issued to Jennifer Burns, Ph.D., University of Alaska Anchorage, CPISB 202C, 3101 Science Circle, Anchorage, AK 99508.

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa L. González or Amy Sloan, (301) 427-8401.

SUPPLEMENTARY INFORMATION: On December 8, 2015, notice was published in the Federal Register (80 FR 76276) that a request for an amendment Permit No. 15510 to collect, receive, import, and export specimens from marine mammals for scientific research had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The original permit (No. 15510), issued on April 25, 2011 (76 FR 25308) authorized Dr. Burns to obtain samples from up to 50 animals of each of the following species: Harp (Pagophilus groenlandica), hooded (Cystophora cristata), gray (Halichoerus grypus), bearded (Erignathus barbatus), ringed (Phoca hispida), harbor (Phoca vitulina), spotted (Phoca largha), and ribbon (Histriophoca fasciata) seals; and to obtain samples annually from up to 6 captive Northern fur seals, Callorhinus ursinus; and 6 captive Steller Sea lions, Eumetopias jubatus, through April 30, 2016.

Permit 15510-01 authorizes the Permit Holder to increase the number of harbor seals from which samples may be collected, received, imported, and exported from 50 to 100 annually; and, extends the duration of the permit through April 30, 2017.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: January 27, 2016.
Julia Harrison,
Chief, Permits and Conservation Division, Office of Protected Resources, National Marine Fisheries Service.

[FR Doc. 2016-01826 Filed 2-1-16; 8:45 am]

BILLING CODE 3510-22-P